DEPARTMENT OF JUSTICE

Notice of Lodging of Amendment to Consent Decree Pursuant to the Comprehensive Environmental Response, Compensation, and Liability Act (CERCLA)

In accordance with Departmental policy, 28 CFR 50.7, notice is hereby given that a proposed and agreed upon Amendment to Consent Decree Entered on May 18, 1995 in United States v. Scovill, Inc., Civil Action No. 3:95CV159, was lodged with the United States District Court for the Eastern District of Virginia on June 6 2002.

The original Consent Decree involved the settlement of claims brought by the United States, pursuant to the Comprehensive Environmental Response, Compensation, and Liability Act (CERCLA). It sought recovery of costs and injunctive relief for the Arrowhead Plating Superfund Site located in Montross, Westmoreland County, Virginia. The proposed and agreed upon Amendment would modify the Consent Decree by: (1) Conforming the groundwater remedy provisions of the 1995 Consent Decree to the requirements of the 2001 Record of Decision Amendment which replaced the pump and treat system selected as the remedy in the original ROD with a Permeable Reactive Subsurface Barrier (“PRSB”) and surface cap; (2) including an agreement where Saltire Industrial, Inc. (successor to Scovill, Inc.) agrees to undertake certain unanticipated work at the Site in exchange for a credit against future oversight costs incurred by the EPA; and (3) updating the representatives of the parties designated to receive formal notices and submissions under the Consent Decree.

The Department of Justice will receive, for a period of thirty (30) days from the date of this publication, comments relating to the proposed Amendment to Consent Decree. Comments should be addressed to the Assistant Attorney General, Environment and Natural Resources Division, PO Box 7611, U.S. Department of Justice, Washington, DC 20044-7611. Each communication should refer on its face to United States v. Scovill, Inc., DOJ #90-11-3-859.

The proposed Amendment to Consent Decree may be examined at the Office of the United States Attorney, Eastern District of Virginia, 2100 Jamieson Avenue, Alexandria, Virginia 22314; and at U.S. Environmental Protection Agency, Region III Office, 1650 Arch Street, Philadelphia, Pennsylvania 19103-2029. A copy of the proposed Amendment to Consent Decree may be obtained by (1) mail from the Consent Decree Library, PO Box 7611, U.S. Department of Justice, Washington, DC 20044-7611; or by (2) faxing the request to Tonia Fleetwood, U.S. Department of Justice, fax number (202) 616-6584; phone confirmation (202) 514-1547. In requesting a copy, please forward the request and a check in the amount of $2.00 (25 cents per page reproduction cost), made payable to the U.S. Treasury.

Robert Brook,
Assistant Section Chief, Environmental Enforcement Section, Environment and Natural Resources Division.

[FR Doc. 02-16781 Filed 7-3-02; 8:45 am]

BILLING CODE 4410-15-M